INTERNATIONAL TRADE COMMISSION

[Inv. No. 337-TA-781]

In the Matter of Certain Microprocessors, Components Thereof, and Products Containing Same; Notice of Institution of Investigation; Institution of Investigation Pursuant to 19 U.S.C. 1337

AGENCY: U.S. International Trade Commission.

ACTION: Notice.

SUMMARY: Notice is hereby given that a complaint was filed with the U.S. International Trade Commission on May 31, 2011, under section 337 of the Tariff Act of 1930, as amended, 19 U.S.C. 1337, on behalf of X2Y Attenuators, LLC of Erie, Pennsylvania. The complaint alleges violations of section 337 based upon the importation into the United States, the sale for importation, and the sale within the United States after importation of certain microprocessors, components thereof, and products containing same by reason of infringement of certain claims of U.S. Patent No. 6,738,249 (“the `249 patent”); U.S. Patent No. 7,110,227 (“the `227 patent”); U.S. Patent No. 7,609,500 (“the `500 patent”); U.S. Patent No. 7,733,621 (“the `621 patent”); and U.S. Patent No. 7,916,444 (“the `444 patent”). The complaint further alleges that an industry in the United States exists as required by subsection (a)(2) of section 337.

The complainant requests that the Commission institute an investigation and, after the investigation, issue an exclusion order and a cease and desist order.

ADDRESSES: The complaint, except for any confidential information contained therein, is available for inspection during official business hours (8:45 a.m. to 5:15 p.m.) in the Office of the Secretary, U.S. International Trade Commission, 500 E Street, SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at http://www.usitc.gov. The public record for this investigation may be viewed on the Commission's electronic docket (EDIS) at http://edis.usitc.gov.

FOR FURTHER INFORMATION CONTACT: The Office of Unfair Import Investigations, U.S. International Trade Commission, telephone (202) 205-2560.

Authority: The authority for institution of this investigation is contained in section 337 of the Tariff Act of 1930, as amended, and in section 210.10 of the Commission's Rules of Practice and Procedure, 19 CFR 210.10 (2011).

Scope of Investigation: Having considered the complaint, the U.S. International Trade Commission, on June 29, 2011, ordered that—

(1) Pursuant to subsection (b) of section 337 of the Tariff Act of 1930, as amended, an investigation be instituted to determine whether there is a violation of subsection (a)(1)(B) of section 337 in the importation into the United States, the sale for importation, or the sale within the United States after importation of certain microprocessors, components thereof, and products containing same that infringe one or more of claims 11-16, 41, 42, and 52-55 of the `249 patent; claims 1, 3, 4, 8, 9, 21, 24, 28, 29, 32, 35, 36, 39, 40, 52, 55, 56, 59, and 60 of the `227 patent; claims 1-18, 20-44, 46, 49, 50, 52, 53, 55, and 57-62 of the `500 patent; claims 1-20 of the `621 patent; and claims 1-9 and 26-49 of the `444 patent, and whether an industry in the United States exists as required by subsection (a)(2) of section 337;

(2) Pursuant to Commission Rule 210.50(b)(1), 19 CFR 210.50(b)(1), the presiding administrative law judge shall take evidence or other information and hear arguments from the parties and other interested persons with respect to the public interest in this investigation, as appropriate, and provide the Commission with findings of fact and a recommended determination on this issue;

(3) For the purpose of the investigation so instituted, the following are hereby named as parties upon which this notice of investigation shall be served:

(a) The complainant is:

X2Y Attenuators, LLC, 2730-B West 21st Street, Erie, PA 16506.

(b) The respondents are the following entities alleged to be in violation of section 337, and are the parties upon which the complaint is to be served:

Intel Corporation, 2200 Mission College Boulevard, Santa Clara, CA 95054;

Components Intel de Costa Rica S.A., Calle 129 LaRibera de Belen, Heredia, 4103, Costa Rica;

Intel Malaysia Sdn. Bhd, Bayan Lapas Free Trade Zone, Phase III, Penang 11900, Malaysia;

Intel (Philippines), Unit 7-02, 3rd Avenue & 30th Street, ESQ Zone, Bonifacio Global City, Taguig City, 1634 Metro Manila, Philippines;

Intel Products (Chengdu) Ltd., Number 8-1, Kexin Road, Chengdu High-Tech Zone (West Park), Chengdu, Sichuan 611731, China;

Intel Products (Shanghai) Ltd., Pudong 3, 999 Ying Lun Road, Waigaoqiao Free Trade Zone, Pudong, Shanghai 200131, China;

Apple Inc., 1 Infinite Loop, Cupertino, CA 95014;

Hewlett-Packard Company, 3000 Hanover Street, Palo Alto, CA 94304.

(c) The Office of Unfair Import Investigations, U.S. International Trade Commission, 500 E Street, SW., Suite 401, Washington, DC 20436; and

(4) For the investigation so instituted, the Honorable Paul J. Luckern, Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(d)-(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: June 29, 2011.
James R. Holbein,
Secretary to the Commission.

[FR Doc. 2011-16904 Filed 7-6-11; 8:45 am]

BILLING CODE 7020-02-P